DEPARTMENT OF ENERGY

Federal Energy Regulatory Commission

[Docket Nos. GT01-14-000 and CP00-424-002]

Distrigas of Massachusetts LLC; Notice of Compliance Filing

March 20, 2001.

Take notice that on March 14, 2001, Distrigas of Massachusetts LLC tendered for filing revisions to its FERC Gas Tariff, First Revised Volume No. 1, to become effective April 13, 2001.

Distrigas of Massachusetts LLC states that the purpose of this filing is to comply with the Commission's order issued December 14, 2000, in Docket No. CP00-424-001.

On July 10, 2000, Distrigas of Massachusetts Corporation filed with the Secretary of State of Delaware a certificate of conversion, by the acceptance of which Distrigas of Massachusetts Corporation was continued as Distrigas of Massachusetts LLC, a limited liability company. Distrigas of Massachusetts LLC filed a petition with the Commission on July 27, 2000, requesting the Commission to redesignate, in the name of Distrigas of Massachusetts LLC, all certificates issued by the Commission and all proceedings before the Commission which were in the name of Distrigas of Massachusetts Corporation. On December 14, 2000, the Commission issued an Order Granting Rehearing, which required, in ordering paragraph (C), that Distrigas of Massachusetts LLC file, within 90 days of the Order, a revised tariff bearing its name. The present filing complies with that Order.

Any person desiring to be heard or to protest said filing should file a motion to intervene or a protest with the Federal Energy Regulatory Commission, 888 First Street, NE., Washington DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7369 Filed 3-23-01; 8:45 am]

BILLING CODE 6717-01-M